DEPARTMENT OF TRANSPORTATION

Federal Aviation Administration

Eighteenth Plenary Meeting: RTCA Special Committee 203: Unmanned Aircraft Systems

AGENCY: Federal Aviation Administration (FAA), DOT.

ACTION: Notice of RTCA Special Committee 203: Unmanned Aircraft Systems.

SUMMARY: The FAA is issuing this notice to advise the public of a meeting of RTCA Special Committee 203: Unmanned Aircraft Systems.

DATES: The meeting will be held October 19-21, 2010 at 9 a.m. to 5 p.m. (Unless stated otherwise).

ADDRESSES: The meeting will be held at the RTCA Conference Rooms, 1828 L Street, NW., Suite 805, Washington, DC, 20036.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a Special Committee 203: Unmanned Aircraft Systems meeting. The agenda will include:

Tuesday, October 19

• 9 a.m.—Morning Opening Plenary Session.

• Introductory Remarks and Introductions.

• Approval of 17th Plenary Summary held.

• Plenary Presentations

• Chairperson/Leadership Updates.

• Designated Federal Official (DFO) Update.

• Work Plan Status.

• Work Group Update.

• Overview of Product Team Breakout Session.

• RTCA Workspace Web Tool.

• Closing Plenary Session.

• Plenary Adjourns until the Closing Session on Thursday.

• Mid-morning/Afternoon.—Work Group Breakout Sessions

• Systems Engineering Workgroup.

• Control and Communications Workgroup.

• Sense and Avoid Workgroup.

Wednesday, October 20th

• All Day—Work Group Breakout Sessions:

• Systems Engineering Workgroup.

• Control and Communications Workgroup.

• Sense and Avoid Workgroup.

Thursday, October 21st

• Morning—Workgroup Breakout Sessions

• Systems Engineering Workgroup.

• Control and Communications Workgroup.

• Sense and Avoid Workgroup.

• Mid-Morning/Afternoon—Closing Plenary Session

• Workgroup Back Briefs.

• Other Business.

• Date, Place, and Time for next Plenary.

• Adjourn.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 22, 2010.
Robert L. Bostiga,
RTCA Advisory Committee.

[FR Doc. 2010-24544 Filed 9-29-10; 8:45 am]

BILLING CODE 4910-13-P